COMMISSION ON CIVIL RIGHTS

Agenda and Notice of Public Meeting of the Connecticut State Advisory Committee

Notice is hereby given, pursuant to the provisions of the rules and regulations of the U.S. Commission on Civil Rights, that a meeting of the Connecticut State Advisory Committee will convene at 12 p.m. and adjourn at 2 p.m. on Friday, September 8, 2006 in Room 203 of the Commons Building, located on The Learning Corridor campus located at 43 Vernon St. in Hartford, Connecticut. The purpose of the meeting is for the committee to have orientation for new advisory committee members and to plan for the committee's September briefing on school choice.

Persons desiring additional information should contact Barbara de La Viez of the Eastern Regional Office, 202-376-7533 (TTY 202-376-8116). Hearing impaired persons who will attend the meeting and require the services of a sign language interpreter should contact the Eastern Regional Office at least 5 (five) working days before the scheduled date of the planning meeting.

The meeting will be conducted pursuant to the provisions of the rules and regulations of the Commission.

Dated at Washington, DC, August 24, 2006.
Ivy L. Davis,
Acting Chief, Regional Programs Coordination Unit.

[FR Doc. E6-14417 Filed 8-29-06; 8:45 am]

BILLING CODE 6335-01-P